DEPARTMENT OF AGRICULTURE

Grain Inspection, Packers and Stockyards Administration

Opportunity for Designation in Amarillo (TX), Cairo (IL), Corpus Christi (TX), Louisiana, North Carolina, and Belmond (IA) Areas, and Request for Comments on the Official Agencies Serving These Areas

AGENCY: Grain Inspection, Packers and Stockyards Administration, USDA.

ACTION: Notice.

SUMMARY: The designations of the official agencies listed below will end on September 30, 2007. We are asking persons interested in providing official services in the areas served by these agencies to submit an application for designation. We are also asking for comments on the quality of services provided by these currently designated agencies: Amarillo Grain Exchange, Inc. (Amarillo); Cairo Grain Inspection Agency, Inc. (Cairo); Intercontinental Grain Inspections, Inc. (Intercontinental); Louisiana Department of Agriculture and Forestry (Louisiana); North Carolina Department of Agriculture (North Carolina); and D. R. Schaal Agency, Inc. (Schaal).

DATES: Applications and comments must be received on or before April 6, 2007.

ADDRESSES: We invite you to submit applications and comments on this notice. You may submit applications and comments by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act, as amended (USGSA), authorizes GIPSA's Administrator to designate a qualified applicant to provide official services in a specified area after determining that the applicant is better able than any other applicant to provide such official services (7 U.S.C. 79 (f)(1)).

Section 7(g) (1) of USGSA provides that designations of official agencies will terminate not later than three years and may be renewed according to the criteria and procedures prescribed in Section 7(f) of USGSA.

Current Designations Being Announced for Renewal
Official agency | Main office | Designation start | Designation end
Amarillo | Amarillo, TX | 10/01/2004 | 09/30/2007.
Cairo | Cairo, IL | 10/01/2004 | 09/30/2007.
Intercontinental | Maumee, OH | 04/10/2006 | 09/30/2007.
Louisiana | Baton Rouge, LA | 10/01/2004 | 09/30/2007.
North Carolina | Raleigh, NC | 10/01/2004 | 09/30/2007.
Schaal | Belmond, IA | 10/01/2004 | 09/30/2007.

Amarillo

In accordance with Section 7(f) (2) of USGSA (7 U.S.C. 79 (f) (2)) the following geographic area, in the States of Oklahoma and Texas, is assigned to Amarillo:

In Texas:

• Bounded on the North by the Texas-Oklahoma State line to the eastern Clay County line;

• Bounded on the East by the eastern Clay, Archer, Throckmorton, Shackelford, and Callahan County lines;

• Bounded on the South by the southern Callahan, Taylor, and Nolan County lines;

• Bounded on the West by the western Nolan, Fisher, Stonewall, King, and Cottle County lines; the western Childress County line north to U.S. Route 287; U.S. Route 287 northwest to Donley County; the southern Donley and Armstrong County lines west to Prairie Dog Town Fork of the Red River; Prairie Dog Town Fork of the Red River northwest to State Route 217; State Route 217 west to FM 1062; FM 1062 west to U.S. Route 385; U.S. Route 385 north to Oldham County; the southern Oldham County line; the western Oldham, Hartley, and Dallam County lines.

In Oklahoma:

• Beaver, Cimarron, and Texas Counties.

Cairo

In accordance with Section 7(f) (2) of USGSA (7 U.S.C. 79 (f) (2)), the following geographic area, in the States of Illinois, Kentucky, and Tennessee, is assigned to Cairo.

In Illinois:

• Randolph County (southwest of State Route 150 from the Mississippi River north to State Route 3); Jackson County (southwest of State Route 3 southeast to State Route 149; State Route 149 east to State Route 13; State Route 13 southeast to U.S. Route 51; U.S. Route 51 south to Union County); and Alexander, Johnson, Hardin, Massac, Pope, Pulaski, and Union Counties.

In Kentucky:

• Ballard, Calloway, Carlisle, Fulton, Graves, Hickman, Livingston, Lyon, Marshall, McCracken, and Trigg Counties.

In Tennessee:

• Benton, Dickson, Henry, Houston, Humphreys, Lake, Montgomery, Obion, Stewart, and Weakley Counties.

• Cairo's assigned geographic area does not include the following grain elevator inside Cairo's area which has been and will continue to be serviced by the following official agency: Midsouth Grain Inspection Service: Cargill, Inc., Tiptonville, Lake County, Tennessee.

Intercontinental

In accordance with Section 7(f) (2) of USGSA (7 U.S.C. 79 (f) (2)), the following geographic area, in the State of Texas, is assigned to Intercontinental.

• Bounded on the north by the northern Young, Jack, Montague, Cooke, Grayson, Fannin, Lamar, Red River, Morris, and Marion County line east to the Texas State line;

• Bounded on the east by the eastern Texas State line south to the southern Texas State line;

• Bounded on the south by the southern Texas State line west to the western Val Verde County line;

• Bounded on the west by the western Val Verde, Edwards, Kimble, Mason, San Saba, Mills, Comanche, Eastland, Stephens, and Young County lines north to the northern Young County line.

• Intercontinental's assigned geographic area does not include the export port locations inside Intercontinental's area which are serviced by GIPSA.

Louisiana

In accordance with Section 7(f)(2) of USGSA (7 U.S.C. 79(f)(2)), the following geographic area, the entire State of Louisiana, except those export port locations within the State which are serviced by GIPSA, is assigned to Louisiana.

North Carolina

In accordance with Section 7(f)(2) of USGSA (7 U.S.C. 79(f)(2)), the following geographic area, the entire State of North Carolina, except those export port locations within the State which are serviced by GIPSA, is assigned to North Carolina.

Schaal

In accordance with Section 7(f)(2) of USGSA (7 U.S.C. 79(f)(2)), the following geographic area, in the States of Iowa and Minnesota, is assigned to Schaal.

In Iowa:

• Bounded on the North by the northern Kossuth County line from U.S. Route 169; the northern Winnebago, Worth, and Mitchell County lines;

• Bounded on the East by the eastern Mitchell County line; the eastern Floyd County line south to B60; B60 west to T64; T64 south to State Route 188; State Route 188 south to C33;

• Bounded on the South by C33 west to T47; T47 north to C23; C23 west to S56; S56 south to C25; C25 west to U.S. Route 65; U.S. Route 65 south to State Route 3; State Route 3 west to S41; S41 south to C55; C55 west to Interstate 35; Interstate 35 southwest to the southern Wright County line; the southern Wright County line west to U.S. Route 69; U.S. Route 69 to C54; C54 west to State Route 17; and

• Bounded on the West by State Route 17 north to the southern Kossuth County line; the Kossuth County line west to U.S. Route 169; U.S. Route 169 north to the northern Kossuth County line.

In Minnesota:

• Faribault, Freeborn, and Mower Counties.

• Schaal's assigned geographic area does not include the following grain elevators inside Schaal's area which have been and will continue to be serviced by the following official agencies:

1. Central Iowa Grain Inspection Service, Inc.: Agvantage F.S., Chapin, Franklin County; and Five Star Coop, Rockwell, Cerro Gordo County.

2. Sioux City Inspection and Weighing Service Company: West Bend Elevator Co., Algona, Kossuth County; Stateline Coop, Burt, Kossuth County; Gold-Eagle, Goldfield, Wright County; and North Central Coop, Holmes, Wright County.

Opportunity for Designation

Interested persons, including Amarillo, Cairo, Intercontinental, Louisiana, North Carolina, and Schaal, may apply for designation to provide official services in the geographic areas specified above under the provisions of Section 7(f) of USGSA (7 U.S.C. 79(f)(2)), and 9 CFR 800.196(d) regulations. Designation in the specified geographic areas is for the period beginning October 1, 2007, and ending September 30, 2010. To apply for designation, contact the Compliance Division at the address listed above for forms and information, or obtain applications at the GIPSA Web site, http://www.gipsa.usda.gov.

Request for Comments

We are also publishing this notice to provide interested persons the opportunity to present comments on the quality of services provided by the Amarillo, Cairo, Intercontinental, Louisiana, North Carolina, and Schaal official agencies. In the designation process, we will consider substantive comments citing reasons and pertinent data for support or objection to the designation of the applicants. Submit all comments to the Compliance Division at the above address.

In determining which applicant will be designated, we will consider applications, comments, and other available information.

Authority: 7 U.S.C. 71 et seq.

James E. Link,
Administrator, Grain Inspection, Packers and Stockyards Administration.

[FR Doc. E7-4098 Filed 3-6-07; 8:45 am]

BILLING CODE 3410-KD-P